ENVIRONMENTAL PROTECTION AGENCY

40 CFR Part 52

[EPA-R10-OAR-2011-0194; FRL-9709-4]

Approval and Promulgation of State Implementation Plans: Idaho; Boise-Northern Ada County Air Quality Maintenance Area; Second 10-Year Carbon Monoxide Maintenance Plan

AGENCY: Environmental Protection Agency (EPA).

ACTION: Proposed rule.

SUMMARY: EPA is proposing to approve a State Implementation Plan (SIP) revision submitted by the State of Idaho (the State). The Idaho State Department of Environmental Quality (IDEQ) submitted the Northern Ada County Air Quality Maintenance Area Second 10-year Carbon Monoxide Maintenance Plan on February 10, 2011. In accordance with the requirements of the Federal Clean Air Act (the Act), EPA is proposing to approve the revision because the State adequately demonstrates that the Boise-Northern Ada County Air Quality Maintenance Area will maintain air quality standards for carbon monoxide (CO) through the year 2022.

DATES: Comments must be received on or before September 4, 2012.

ADDRESSES: Submit your comments, identified by Docket ID No. EPA-R10-OAR-2011-0194, by any of the following methods:

• www.regulations.gov: Follow the on-line instructions for submitting comments.

• Email: chi.john@epa.gov

• Mail: John Chi, U.S. EPA Region 10, Office of Air, Waste and Toxics (AWT-107), 1200 Sixth Avenue, Suite 900, Seattle WA, 98101.

• Hand Delivery/Courier: U.S. EPA Region 10, 1200 Sixth Avenue, Suite 900, Seattle WA, 98101. Attention: John Chi, Office of Air, Waste and Toxics, AWT-107. Such deliveries are only accepted during normal hours of operation, and special arrangements should be made for deliveries of boxed information.

Please see the direct final rule which is located in the Rules section of this Federal Register for detailed instructions on how to submit comments.

FOR FURTHER INFORMATION CONTACT: John Chi at telephone number: (206) 553-1230, email address: chi.john@epa.gov, fax number: (206) 553-0110, or Claudia Vergnani Vaupel at telephone number: (206) 553-6121, email address: vaupel.claudia@epa.gov, or the above EPA, Region 10 address.

SUPPLEMENTARY INFORMATION: For further information, please see the direct final action, of the same title, which is located in the Rules section of this Federal Register. EPA is approving the State's SIP revision as a direct final rule without prior proposal because EPA views this as a noncontroversial SIP revision and anticipates no adverse comments. A detailed rationale for the approval is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: July 23, 2012.
Dennis J. McLerran,
Regional Adminstrator, EPA Region 10.

[FR Doc. 2012-18786 Filed 8-1-12; 8:45 am]

BILLING CODE 6560-50-P